DEPARTMENT OF ENERGY

10 CFR Part 460

[EERE-2009-BT-BC-0021]

RIN 1904-AF73

Energy Conservation Standards for Manufactured Housing

AGENCY: Office of Energy Efficiency and Renewable Energy, Department of Energy.

ACTION: Final rule.

SUMMARY: The U.S. Department of Energy (DOE) is publishing this rule to amend the compliance date for its manufactured housing energy conservation standards. Previously, manufacturers had to comply with these standards on and after July 1, 2025, for Tier 2 homes and 60 days after the issuance of enforcement procedures for Tier 1 homes. DOE is delaying the Tier 2 compliance date to allow DOE more time to consider the proposed enforcement procedures and comments submitted, and to evaluate appropriate next steps that provide clarity for manufacturers and other stakeholders.

DATES: The effective date of this rule is July 2, 2025.

ADDRESSES: The docket for this rulemaking, which includes Federal Register notices, public meeting attendee lists and transcripts, if applicable, comments, and other supporting documents and materials, is available for review at www.regulations.gov. All documents in the docket are listed in the www.regulations.gov index. However, not all documents listed in the index may be publicly available, such as information that is exempt from public disclosure.

The docket web page can be found at www.regulations.gov/docket/EERE-2009-BT-BC-0021. The docket web page contains instructions on how to access all documents, including public comments, in the docket, as well as a summary of the rulemaking.

FOR FURTHER INFORMATION CONTACT:

Ms. Ani Esenyan, U.S. Department of Energy, Office of the General Counsel, GC-33, 1000 Independence Avenue SW, Washington, DC 20585-0121. Telephone: (202) 586-4798. Email: ani.esenyan@hq.doe.gov.

Mr. Jeremy Williams, U.S. Department of Energy, Office of Energy Efficiency and Renewable Energy, 1000 Independence Avenue SW, Washington, DC 20585-0121. Telephone: (202) 441-1288. Email: jeremy.williams@ee.doe.gov.

SUPPLEMENTARY INFORMATION:

Table of Contents

I. Background

II. Need To Amend Compliance Date

III. Overview of the Final Rule

A. Summary of Public Comments

B. Discussion of Public Comments Received

IV. Procedural Issues and Regulatory Review

A. Review Under Executive Orders 12866 and 13563

B. Review Under Executive Orders 14154 and 14192

C. Review Under Additional Executive Orders and Procedural Requirements

V. Approval of the Office of the Secretary

I. Background

The Energy Independence and Security Act of 2007 (“EISA,” Pub. L. 110-140) directs the U.S. Department of Energy (“DOE” or, in context, “the Department”) to establish energy conservation standards for manufactured housing (“MH”). (42 U.S.C. 17071) Manufactured homes are constructed according to a code administered by the U.S. Department of Housing and Urban Development (“HUD Code”). 24 CFR part 3280. See also generally 42 U.S.C. 5401-5426. Structures, such as site-built and modular homes, that are constructed to state, local, or regional building codes are excluded from the coverage of the HUD Code.

The rulemaking history of the MH energy conservation standards is discussed in the final rule DOE adopted on May 31, 2022 (“May 2022 Final Rule”). 87 FR 32728. In that rule, DOE adopted energy conservation standards for manufactured housing in a new part of the Code of Federal Regulations (“CFR”) under 10 CFR part 460, subparts A, B, and C. Subpart A of 10 CFR part 460 presents generally the scope of the rule and provides definitions of key terms. Subpart B establishes requirements for manufactured homes that relate to climate zones, the building thermal envelope, air sealing, and installation of insulation, based on certain provisions of the 2021 International Energy Conservation Code (“2021 IECC”). Subpart C establishes requirements based on the 2021 IECC related to duct sealing; heating, ventilation, and air conditioning (“HVAC”); service hot water systems; mechanical ventilation fan efficacy; and heating and cooling equipment sizing.

Under the energy conservation standards, the stringency of the requirements under subpart B is based on a tiered approach depending on the number of sections of the manufactured home. Accordingly, two sets of standards are established in subpart B (i.e., Tier 1 and Tier 2). Both Tier 1 and Tier 2 incorporate building thermal envelope measures based on certain thermal envelope components subject to the 2021 IECC that DOE determined applicable and appropriate for manufactured homes. Tier 1 applies these building thermal envelope provisions to single-section manufactured homes but only includes components at stringencies that would increase the incremental purchase price by less than $750 in order to address affordability concerns that were raised by HUD and other stakeholders during the consultation and rulemaking process. Tier 2 applies these same building thermal envelope provisions to multi-section manufactured homes but at higher stringencies specified for site-built homes in the 2021 IECC based on consideration of the design and factory construction techniques of manufactured homes. Manufacturers can comply with the building thermal envelope requirements through a prescriptive pathway (e.g., using materials with specified ratings) or a performance pathway based on overall thermal transmittance (Uo). See 10 CFR 460.102(c). Further, the energy conservation standards for both tiers also include duct and air sealing, insulation installation, HVAC and service hot water system specifications, mechanical ventilation fan efficacy, and heating and cooling equipment sizing provisions, based on the 2021 IECC. DOE concluded that this approach is cost-effective based on the expected total life-cycle cost (“LCC”) savings for the lifetime of the home associated with implementation of the energy conservation standards. See e.g., 87 FR 32742.

In the May 2022 Final Rule, DOE adopted a compliance date such that the standards would apply to manufactured homes that are manufactured on or after one year following the publication date of the final rule in the Federal Register, which was May 31, 2023. In doing so, DOE noted its belief that many manufacturers already have experience complying with efficiency requirements similar to what DOE required in the May 2022 Final Rule based on manufacturers' previous experience with Uo requirements, as historically relied upon under the broader HUD standards for manufactured housing, and ENERGY STAR Version 2 efficiency requirements for homes produced on or after June 1, 2020. 87 FR 32759. DOE did not specify its approach for enforcement of the standards in the May 2022 Final Rule and stated that manufacturers would be able to comply with the standards as they were issued. DOE posited that many of the requirements in the standards would require minimal compliance efforts (e.g., documenting the use of materials subject to separate Federal or industry standards, such as the R-value of insulation or U-factor values for fenestration). 87 FR 32758, 32790. Nevertheless, DOE noted in the May 2022 Final Rule that it may address compliance and enforcement issues and procedures in a future agency action (see 87 FR 32757-32758).

On March 24, 2023, DOE published in the Federal Register a Notice of Proposed Rulemaking (NOPR) proposing to amend the compliance date for the manufactured housing energy conservation standards (88 FR 17745, “March 2023 NOPR”). In that NOPR, DOE described the need to amend the compliance date for the manufactured housing standards, noting that it had not yet issued procedures for investigating and enforcing against noncompliance with the standards, and that a delay was necessary to ensure that DOE could receive and incorporate meaningful stakeholder feedback into its enforcement procedures prior to part 460's compliance date. Accordingly, DOE proposed to require compliance with the Tier 1 standards beginning 60 days after publication of its final enforcement procedures, and compliance with the Tier 2 standards beginning 180 days after publication of its final enforcement procedures. 88 FR 17746.

In a final rule published on May 30, 2023, DOE amended the compliance date for 10 CFR part 460 consistent with its proposed compliance date in the Mar 23, 2023, NOPR for Tier 1 (i.e., 60 days after issuance of DOE's enforcement procedures for part 460). (88 FR 34411, “May 2023 Final Rule”) However, for Tier 2, DOE amended the compliance date to July 1, 2025. After consideration of comments received in response to the March 2023 NOPR, in the May 2023 Final Rule DOE determined that amending the compliance date to July 1, 2025, for Tier 2 homes would provide greater certainty for manufacturers versus an indeterminate date.

DOE published a NOPR on December 26, 2023, proposing enforcement procedures for manufactured homes (88 FR 88844, “December 2023 Enforcement NOPR”). DOE is continuing to consider the proposed enforcement procedures and comments submitted and has not yet published a final rule establishing enforcement procedures.

DOE published a NOPR on April 24, 2025 (“April 2025 NOPR”) (90 FR 17230) proposing to extend the compliance date for Tier 2 homes under the manufactured housing energy conservation standards in 10 CFR part 460 until after DOE's forthcoming enforcement procedures take effect.

II. Need To Amend Compliance Date

In the March 2023 NOPR and subsequently-adopted May 2023 Final Rule, DOE recognized that additional lead time for MH manufacturers to comply with the energy conservation standards until after the issuance of enforcement procedures was appropriate, particularly for Tier 2 homes. Indeed, consistent with this approach, and as previously noted, DOE initially proposed in the March 2023 NOPR providing a staggered conditional compliance date—for Tier 1 homes, 60 days after publication of its final enforcement procedures, and for Tier 2 homes, 180 days after publication of its final enforcement procedures. 88 FR 17746.

While DOE continues to consider the proposed enforcement procedures and comments submitted, and evaluate appropriate next steps, DOE recognizes there is a possibility that the cadence for compliance dates could become misaligned, i.e., compliance with the more stringent, multi-section Tier 2 standards could be required before the less stringent, single section Tier 1 standards (and before publication of final enforcement procedures). While DOE previously stated that it believes manufacturers are capable of complying with the DOE standards as written, DOE nevertheless recognizes that having enforcement procedures in place prior to requiring compliance would help provide clarity to manufacturers. DOE is extending the compliance date here consistent with its intent that the Tier 2 compliance deadline occurs after both the Tier 1 compliance deadline and the promulgation of final enforcement procedures.

A delay of the July 1, 2025, compliance date is therefore necessary to ensure that DOE can evaluate and incorporate meaningful stakeholder feedback regarding appropriate next steps for the manufactured housing standard enforcement procedures, while still providing appropriate lead time for compliance.

III. Overview of the Final Rule

Through this action, DOE is finalizing the April 2025 NOPR. Pursuant to its authority to establish energy conservation standards for manufactured housing (42 U.S.C. 17071), DOE is extending the compliance date for Tier 2 homes under the manufactured housing energy conservation standards in 10 CFR part 460 until after DOE's forthcoming enforcement procedures take effect. More specifically, DOE is requiring compliance with the Tier 2 standards in subparts B and C beginning 180 days after publication of its final enforcement procedures. DOE is not amending the compliance date for Tier 1 homes. Such homes will be subject to the standards in subparts B and C beginning 60 days after publication of DOE's final enforcement procedures. This aligns with the proposal in the March 2023 NOPR.

DOE believes enforcement procedures will provide additional clarity to manufacturers and consumers regarding DOE's expectations of manufacturers and DOE's plans for enforcing the standards. Delaying the compliance date until after the enforcement procedures are effective also provides manufacturers time to understand DOE's enforcement procedures and prepare their operations to ensure compliance with DOE's standards. Accordingly, DOE is delaying the July 1, 2025, compliance date for the standards of 10 CFR part 460 applicable to Tier 2 homes until 180 days after DOE's publication of its final enforcement procedures. The existing compliance date for Tier 1 homes will remain unchanged at 60 days after publication of DOE's final enforcement procedures.

A. Summary of Public Comments

DOE received public comments in response to the April 2025 NOPR from the organizations and interested parties identified in the table below. These comments are available for review in the public docket for this rulemaking. The specific issues relating to the NOPR and this final rule are addressed in the following section (“Discussion of Public Comments Received”).

Table III-1—April 2025 NOPR Written Comments
Commenter(s) | Document No.
Individual * | EERE-2009-BT-BC-0021-2642
Individual | EERE-2009-BT-BC-0021-2643
Manufactured Housing Association for Regulatory Reform | EERE-2009-BT-BC-0021-2644
Individual | EERE-2009-BT-BC-0021-2645
Manufactured Housing Institute | EERE-2009-BT-BC-0021-2647
Joint Comments: | EERE-2009-BT-BC-0021-2646
American Council for an Energy Efficiency Economy, American Institute of Architects, Americans for Financial Reform Education Fund, E4TheFuture, Earth Advantage, Earthjustice, Institute for Market Transformation, Lincoln Institute of Land Policy, Next Step Network, Northeast Energy Efficiency and Electrification Council, NPHS, ROC USA, Sierra Club, Vermont Law and Graduate School, Institute for Energy and the Environment
* Comment submitted anonymously.

B. Discussion of Public Comments Received

Comment: Two commenters (Abigail Johnson and an anonymous individual) expressed opposition to DOE's proposal to delay the Tier 2 compliance date. The anonymous commenter recommended not delaying the energy conservation standards for manufactured housing because the rule will help reduce waste, fraud, and abuse by developers, realtors and government officials interested in protecting the fossil fuel industry. (Anonymous, No. 2642 at p. 1) Abigail Johnson opposed this extension based on an expressed concern with deregulation and with the executive order that prompted this change as it relates to manufactured housing. She noted that the current standards were established in 2023 and believed there has been sufficient time to figure out a system of enforcement. Further, she stated stricter standards are necessary to address the climate crisis, and also expressed concern with federal workforce reduction in the area of regulation and safety and that a delay of the conservation deadline may make it an ever-moving goal with no actual implementation. (Abigail Johnson, No. 2643 at p. 1)

Response: Although DOE understands the commenters' interest in enforcing the standards, DOE's conclusion, consistent with that in the May 2023 Final Rule, is that compliance with the standards is better accomplished by first having enforcement procedures in place to provide added clarity to manufacturers.

Comment: Manufactured Housing Association for Regulatory Reform (“MHARR”) commented that it supports an indefinite extension and delay of the implementation and compliance dates for both the Tier 1 and Tier 2 energy standards. In addition, MHARR reiterated positions previously submitted to the Department regarding DOE's initial extension proposal, and through which MHARR advocated for extending the energy standards compliance date, stressing that it is necessary to develop comprehensive testing, enforcement, and regulatory compliance criteria, which are essential components of any standard. They also commented that the extension is crucial to effectively consider the costs of these measures, both individually and in relation to the overall expenses of manufactured housing energy standards and enforcement procedures. MHARR also referenced pending litigation surrounding DOE's energy conservation standards for manufactured housing filed in the Western District of Texas.

While MHARR commented it supports extending and delaying manufactured housing energy standards implementation, they also maintain the May 2022 Final Rule standards are fundamentally flawed and should be completely withdrawn, not just postponed. They argue that these standards are detrimental to the manufactured housing industry and hinder affordable homeownership for lower and moderate-income Americans. MHARR advocates for crafting a new, cost-effective rule in collaboration with U.S. Department of Housing and Urban Development (“HUD”) and its Manufactured Housing Consensus Committee (“MHCC”), encompassing both the standards and regulatory compliance procedures. (MHARR, No. 2644 at p. 2-3)

Response: DOE agrees with the commenter that it is necessary to amend the compliance date for Tier 2 homes. DOE understands that, while 3 years have passed since the May 2022 Final Rule, many manufacturers may need additional time to adjust their manufacturing practices and ensure homes are compliant with the updated standards and in a manner consistent with the forthcoming enforcement procedures. The extended compliance lead time established under this final rule will provide additional time for DOE to issue its enforcement procedures, and for manufacturers to continue modifying their practices in anticipation of complying with the standards. DOE addresses the additional information the commenter provided regarding the substance of the standards at the end of this section.

Comment: Fourteen organizations—a combination of energy efficiency, affordable housing, academic, and environmental organizations—together filed joint comments (“Joint Commenters”) expressing opposition to DOE's proposed compliance date extension. These organizations contend that the delay will lock-in low-to-moderate-income families into higher utility bills and cause unnecessary increased peak demand on the utility grid, particularly in rural areas. They also noted manufacturer facilities are already capable of complying with the DOE energy conservation standards for manufactured housing and stated that the nation's largest manufacturer has switched all 39 factories in the U.S. to build Zero Energy Ready Homes, which achieved levels of energy efficiency and performance far better than DOE's minimum standard for manufactured homes. The Joint Commenters stated they would like to retain the fixed date for compliance to avoid lengthy delay of enforcement and, if DOE cannot maintain a fixed date for compliance, any delay tied to publication of enforcement procedures should be consistent with that for Tier 1 homes, that is at no more than 60 days after enforcement procedures are finalized (i.e., the same timeline for both Tier 1 and 2 homes). Additionally, the Joint Commenters would like DOE to begin work on strengthening standards based on the 2024 International Energy Conservation Code (IECC) and further assist manufacturers with building Zero Energy Ready Homes.

Response: DOE disagrees that additional time is unwarranted for manufacturers to comply with the updated energy conservation standards. While many manufacturers may indeed be able to comply with the standards now, some manufacturers may not have a clear picture as to how DOE will evaluate compliance or conduct enforcement procedures. As noted in the April 2025 NOPR, DOE believes that having enforcement procedures in place prior to requiring compliance would help provide clarity to manufacturers. Accordingly, DOE has determined that a delay of the compliance date until after promulgation of enforcement procedures is warranted because DOE believes that clear standards with workable enforcement procedures will best support the full realization of the benefits associated with its energy conservation standards. DOE notes that some benefits (both monetary and non-monetary) may be sacrificed in delaying implementation of the standards, as highlighted by the commenter. However, these net benefits also require additional upfront costs paid by homeowners, which can also have a significant impact on housing affordability. Potential benefits may also not be fully realized if manufacturers do not fully comply with the amended standards and lack clarity on associated enforcement processes. With respect to the difference between the compliance dates for Tier 1 and Tier 2 homes, DOE has previously recognized that the Tier 2 standards are inherently more stringent (compared to the Tier 1 standards), and has determined that additional time is warranted for manufacturers to make adjustments to their operations and practices to ensure compliance with the Tier 2 standards.

Comment: Robert Peeks commented in support of postponing the rule's compliance dates, noting that the current enforcement provisions are not well-aligned with industry obligations under HUD 3280. He commented on the importance of having effective and workable DOE energy efficiency standards and anticipates improvements to the rule language through future rulemaking activities. (Robert Peeks, No. 2645, at p.1.)

Response: DOE appreciates the commenters' feedback and has taken it into consideration in developing the current final rule. DOE addresses the additional information the commenter provided regarding the substance of the standards at the end of this section.

Comment: The Manufactured Housing Institute (“MHI”) commented in support of DOE's proposal to delay compliance for Tier 2 homes. MHI further contends that DOE should delay compliance for both Tier 1 and Tier 2 homes to 3-5 years after finalization of enforcement procedures to align with the typical compliance and implementation periods established under DOE's energy conservation standards for appliances. MHI commented that DOE should at least start anew the 1-year implementation period of the May 2022 Final Rule for both Tier 1 and Tier 2 homes after finalization of testing, compliance, and enforcement (“TCE”) provisions and any required 2025 revision to the May 2022 Final Rule. (MHI 2647 p. 1, 4)

Beyond the proposed compliance date extension, MHI stated that DOE should go further and withdraw the May 2022 Final Rule entirely and re-evaluate its cost-benefit analysis based on both a reasoned consideration of the cost of TCE and to reflect up-to-date costing information, consulting with HUD and MHCC as required under EISA. In addition, MHI requests withdraw/reconsideration under Presidential Memorandum: “Delivering Emergency Price Relief for American Families and Deflating the Cost-of-Living Crises” requiring DOE is to deliver price relief to American consumers and lower the cost of housing and expand housing supply. MHI indicates this would also be consistent with E.O. 14192 “Unleashing Prosperity Through Deregulation”. (MHI 2647 p. 1-2)

Further, MHI comments that in 2023 DOE recognized the cost and burden of meeting updated building codes, including the 2021 IECC, as related to financial assistance provided by DOE under the Inflation Reduction Act (“IRA”). MHI references DOE's recent notice of intent and request for information with regard to state building code updates, as established under IRA Section 50131. (MHI, No. 2647, Attachment 7, MHI, No. 2647, Attachment 8) and provides this as contrast to energy conservation standards for manufactured housing and pending enforcement provisions that would require the MH manufactures to redesign floor plans and have designs reapproved by third-party design inspection agencies to meet similar requirements. Based on this, they conclude that a 3-5 year implementation period is warranted after issuance of the final TCE provisions. They also noted that DOE's draft 5-year Appliance rulemaking schedule (MHI, No. 2647, Attachment 8) provides for 3-5 year implementation periods for standards for much simpler building components. MHI also believes that EISA requirements would not prohibit a 3-5 year implementation period, and would not constrain DOE's ability to update standards in accordance with the IECC, as directed under EISA. (MHI 2647 p. 5)

In addition, MHI provided a collection of reference documents, data and details of comments submitted on previous DOE and HUD actions, as well as documents MHI has submitted as part of their related litigation of DOE's energy conservation standards for manufactured housing.

Response: DOE agrees that additional time is warranted for manufacturers to comply with the updated energy conservation standards. While many manufacturers may indeed be able to comply with the standards now, some manufacturers may not have a clear picture as to how DOE will evaluate compliance or conduct enforcement procedures. As noted in the April 2025 NOPR, DOE believes that having enforcement procedures in place prior to requiring compliance would help provide clarity to manufacturers. Accordingly, DOE has determined that a delay of the compliance date until after promulgation of enforcement procedures is warranted. As DOE previously responded to this comment from MHI in the May 2023 Final Rule, DOE disagrees that such an extended period is needed at this time. DOE believes that the compliance lead times in this final rule provide additional time for DOE to issue its enforcement procedures, and for manufacturers to continue modifying their practices to comply with the updated standards.

DOE's emphasizes that the only action DOE is taking in this final rule is to amend the compliance date for Tier 2 manufactured homes. Several commenters expressed opinions and reiterated positions related to DOE's energy conservation standards for manufactured housing, but these comments are outside of the scope of the specific action proposed in the April 2025 NOPR and established through the current final rule. DOE agrees with commenters that enforcement procedures are necessary and will help provide additional clarity to manufacturers. While DOE fully reviewed and considered all comments received, some of the issues presented may be appropriate for future updates to DOE's energy conservation standards for manufactured housing.

DOE sincerely appreciates the time and input provided by all commenters in response to the current action, as well as previous actions. Robust stakeholder response and participation helps improve the process and leads to clearer and more workable energy conservation standards for manufactured housing.

IV. Procedural Issues and Regulatory Review

A. Review Under Executive Orders 12866 and 13563

Executive Order (“E.O.”) 12866, “Regulatory Planning and Review,” 58 FR 51735 (Oct. 4, 1993), as supplemented and reaffirmed by E.O. 13563, “Improving Regulation and Regulatory Review,” 76 FR 3821 (Jan. 21, 2011), requires agencies, to the extent permitted by law, to (1) propose or adopt a regulation only upon a reasoned determination that its benefits justify its costs (recognizing that some benefits and costs are difficult to quantify); (2) tailor regulations to impose the least burden on society, consistent with obtaining regulatory objectives, taking into account, among other things, and to the extent practicable, the costs of cumulative regulations; (3) select, in choosing among alternative regulatory approaches, those approaches that maximize net benefits (including potential economic, environmental, public health and safety, and other advantages; distributive impacts; and equity); (4) to the extent feasible, specify performance objectives, rather than specifying the behavior or manner of compliance that regulated entities must adopt; and (5) identify and assess available alternatives to direct regulation, including providing economic incentives to encourage the desired behavior, such as user fees or marketable permits, or providing information upon which choices can be made by the public. DOE emphasizes as well that E.O. 13563 requires agencies to use the best available techniques to quantify anticipated present and future benefits and costs as accurately as possible. In its guidance, the Office of Information and Regulatory Affairs (“OIRA”) in the Office of Management and Budget (“OMB”) has emphasized that such techniques may include identifying changing future compliance costs that might result from technological innovation or anticipated behavioral changes. For the reasons stated in the preamble, this regulatory action is consistent with these principles.

Section 6(a) of E.O. 12866 also requires agencies to submit “significant regulatory actions” to OIRA for review. OIRA has determined that this regulatory action constitutes a “significant regulatory action” under section 3(f) of E.O. 12866. Accordingly, this action was submitted to OIRA for review under E.O. 12866.

B. Review Under Executive Orders 14154 and 14192

DOE has examined this rulemaking and has determined that it is consistent with the policies and directives outlined in E.O. 14154 “Unleashing American Energy,” E.O. 14192, “Unleashing Prosperity Through Deregulation,” and Presidential Memorandum, “Delivering Emergency Price Relief for American Families and Defeating the Cost-of-Living Crisis.” This final rule is considered an E.O. 14192 deregulatory action. DOE did not estimate the cost savings of this final rule.

C. Review Under Additional Executive Orders and Procedural Requirements

DOE has concluded that the determinations made pursuant to the various other procedural requirements applicable to the May 2022 Final Rule remain unchanged for this confirmation of that rule. These determinations are set forth in the May 2022 Final Rule. 87 FR 32728, 32809-32817.

V. Approval of the Office of the Secretary

The Secretary of Energy has approved the publication of the final rule.

List of Subjects in 10 CFR Part 460

Administrative practice and procedure, Buildings and facilities, Energy conservation, Housing standards, Reporting and recordkeeping requirements.

Signing Authority

This document of the Department of Energy was signed on June 26, 2025

by Louis Hrkman, Principal Deputy Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on June 30, 2025.
Treena V. Garrett,
Federal Register Liaison Officer, U.S. Department of Energy.

For the reasons stated in the preamble, DOE is amending part 460 of Chapter II of Title 10, Code of Federal Regulations as set forth below:

PART 460—ENERGY CONSERVATION STANDARDS FOR MANUFACTURED HOMES

1. The authority citation for part 460 continues to read as follows:

Authority: 42 U.S.C. 17071; 42 U.S.C. 7101 et seq.

2. Revise § 460.1 to read as follows:

§ 460.1 Scope.

This subpart establishes energy conservation standards for manufactured homes as manufactured at the factory, prior to distribution in commerce for sale or installation in the field. Manufacturers must apply the requirements of this part to a manufactured home subject to § 460.4(b) that is manufactured on or after 60 days after publication of final enforcement procedures for this part. DOE will amend this section to include the specific compliance date, once known. Manufacturers must apply the requirements of this part to a manufactured home subject to § 460.4(c) that is manufactured on or after 180 days after publication of final enforcement procedures for this part. DOE will amend this section to include the specific compliance date, once known.

[FR Doc. 2025-12328 Filed 7-1-25; 8:45 am]

BILLING CODE 6450-01-P